DEPARTMENT OF ENERGY

Federal Energy Regulatory Commission

[Docket Nos. EC00-128-000 and ER96-25-020]

Coral Power, L.L.C.; Notice of Filing

August 23, 2000.

Take notice that on August 18, 2000, Coral Power, L.L.C., tendered for filing a notice of change in status and an application under section 203 of the Federal Power Act for approval of the transfer of a 30 percent interest in Coral Power to InterGen N.V., a joint venture between Shell Generating (Holding) B.V. and Bechtel Enterprises Energy, B.V.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-22099 Filed 8-29-00; 8:45 am]

BILLING CODE 6717-01-M